FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 14, 2019.

A. Federal Reserve Bank of Minneapolis (Mark A. Rauzi, Vice President), 90 Hennepin Avenue, Minneapolis, Minnesota 55480-0291:

1. Scott Koop, Galesville, Wisconsin, individually and acting in concert with Steve Koop, LaCrosse, Wisconsin, and Mark Kopp, Galesville, Wisconsin; all to retain shares of Gale Bank Holding Company, Inc., and thereby indirectly retain shares of Bluff View Bank, both of Galesville, Wisconsin.

B. Federal Reserve Bank of San Francisco (Gerald C. Tsai, Director, Applications and Enforcement) 101 Market Street, San Francisco, California 94105-1579:

1. Ivo A. Tjan, North Tustin, California; to retain voting shares of CommerceWest Bank, Irvine, California.

Board of Governors of the Federal Reserve System, February 22, 2019.
Yao-Chin Chao,
Assistant Secretary of the Board.

[FR Doc. 2019-03364 Filed 2-26-19; 8:45 am]

BILLING CODE P